FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Capability Assessment for Readiness (CAR).

Type of Information Collection: Reinstatement, without change of a previously approved collection for which approval has expired.

OMB Number: 3067-0272.

Abstract: The CAR is required for the Federal Emergency Management Agency to report the status of emergency management programs in the nation to the President and the U.S. Congress. States, territories and insular areas use it for program evaluation, strategic planning and budgeting. It is also needed for program evaluation and management to assure that federal funding to state and local governments, territories and insular areas are properly managed and targeted to those areas that need improvement. The CAR is also used to satisfy the Government Performance and Results Act of 1993 and to meet the goals stated in FEMA Strategic plan. The data collected will be summarized in a report to the President and Congress.

Affected Public: State, Local or Tribal Government.

Number of Respondents: 56.

Estimated Time per Respondent: 60 hours.

Estimated Total Annual Burden Hours: 3,360.

Frequency of Response: Biennially.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities and Services Management Division, Administration and Resource Planning Directorate, Federal Emergency Management Agency, 500 C Street, SW., Room 316, Washington, DC 20472, telephone number (202) 646-2625 or facsimile number (202) 646-3347, or email muriel.anderson@fema.gov.

Dated: August 22, 2001.
Reginald Trujillo,
Director, Program Services Division, Operations Support Directorate.

[FR Doc. 01-22104 Filed 8-31-01; 8:45 am]

BILLING CODE 6718-01-P